DEPARTMENT OF ENERGY

Federal Energy Regulatory Commission

18 CFR Parts 141 and 385

[Docket No. RM19-12-000]

Revisions to the Filing Process for Commission Forms

Correction

In proposed rule document 2019-00460 beginning on page 1412 in the issue of Monday, February 4, 2019, make the following correction:

On page 1416, in the second column, the last line of text should read as follows:

“ ☐ 100 hours to prepare and submit the first filing using XBRL; and”.

[FR Doc. C1-2019-00460 Filed 2-22-19; 8:45 am]

BILLING CODE 1301-00-D